DEPARTMENT OF HEALTH AND HUMAN SERVICES

Indian Health Service

Reimbursement Rates for Calendar Year 2003

AGENCY: Indian Health Service, HHS.

ACTION: Notice.

SUMMARY: Notice is given that the Director of Indian Health Service (IHS), under the authority of sections 321(a) and 322(b) of the Public Health Service Act (42 U.S.C. 248(a) and 249(b)) and section 601 of the Indian Health Care Improvement Act (25 U.S.C. 1601), has approved the following rates for inpatient and outpatient medical care provided by IHS facilities for Calendar Year 2003 for Medicare and Medicaid Beneficiaries and Beneficiaries of other Federal Agencies. The Medicare Part A inpatient rates are excluded from the table below as they are paid based on the prospective payment system. Since the inpatient rates set forth below do not include all physician services and practitioner services, additional payment may be available to the extent that those services meet applicable requirements. Physician services being paid by Medicare was generated through legislation, effective July 1, 2001, that allows IHS facilities to file claims with the carrier for physician payment.

| Calendar Year 2003
Inpatient Hospital Per Diem Rate (Excludes Physician Services)
Lower 48 States | $1,526
Alaska | 2,049
Outpatient Per Visit Rate (Excluding Medicare)
Lower 48 States | 206
Alaska | 360
Outpatient Per Visit Rate (Medicare)
Lower 48 States | 175
Alaska | 332
Medicare Part B Inpatient Ancillary Per Diem Rate
Lower 48 States | 298
Alaska | 589
Outpatient Surgery Rate (Medicare)
Established Medicare rates for freestanding Ambulatory Surgery Centers.

Effective Date for Calendar Year 2003 Rates

Consistent with previous annual rate revisions, the Calendar Year 2003 rates will be effective for services provided on/or after January 1, 2003, to the extent consistent with payment authorities including the applicable Medicaid State plan.

Regulatory Impact

We have examined the impacts of this rule as required by Executive Order 12866 and the Regulatory Flexibility Act (RFA) (Pub. L. 96-354). Executive Order 12866 directs agencies to assess all cost and benefits of available regulatory alternatives and, if regulation is necessary, to select regulatory approaches that maximize net benefits (including potential economic, environmental, public health and safety effects, distributive impacts, and equity). A Regulatory Impact Analysis (RIA) must be prepared for major rules with economically significant effects ($110 million or more annually). This notice is not a major rule because we have determined that the economic impact will be negligible.

Section 202 of the Unfunded Mandates Reform Act of 1995 also requires that agencies assess anticipated costs and benefits before issuing any rule that may result in an expenditure in any one year by State, local, or tribal governments, in the aggregate, or by the private sector, of $110 million. This rule will not have a significant economic effect on these governments or the private sector.

The Department has determined that this notice does not have a substantial effect on States or local governments under Executive Order 13132 and will not interfere with the roles, rights and responsibilities of States or local governments.

We are not preparing an analysis for the RFA because we have determined, and we certify, that this rule will not have a significant economic impact on a substantial number of small entities.

In accordance with the provisions of Executive Order l2866, this notice was reviewed by the Office of Management and Budget.

Dated: September 10, 2003.
Michel E. Lincoln,
Deputy Director.

[FR Doc. 03-23731 Filed 9-16-03; 8:45 am]

BILLING CODE 4160-16-P